DEPARTMENT OF ENERGY

Federal Energy Regulatory Commission

[Docket No. RP00-426-016]

Texas Gas Transmission, LLC; Notice of Filing of Negotiated Rate Agreement

November 7, 2003.

Take notice that on October 30, 2003, Texas Gas Transmission, LLC (Texas Gas), submitted for filing the tariff sheets listed below for incorporation into its FERC Gas Tariff, Second Revised Volume No. 1:

First Revised Sheet No. 51

First Revised Sheet No. 56

Texas Gas states that the purpose of this filing is to propose revised tariff sheets in order to delete references to negotiated rate and/or non-conforming service agreements which have expired, or which have been modified to eliminate the non-conforming language.

Texas Gas states that copies of this filing are being mailed to all parties on the official service list in this docket, to Texas Gas's official service list, to Texas Gas's jurisdictional customers, and to interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Magalie R. Salas,
Secretary.

[FR Doc. E3-00286 Filed 11-14-03; 8:45 am]

BILLING CODE 6717-01-P